DEPARTMENT OF JUSTICE

Antitrust Division

Notice Pursuant to the National Cooperative Research and Production Act of 1993—VSI Alliance

Notice is hereby given that, on January 27, 2000, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, 3Com Corporation, Santa Clara, CA; Jean-Paul Calvez (individual member), Nantes, France; Pai Chou (individual member), Irvine, CA; ControlNet, Inc., Milpitas, CA; DSP Group, Inc., Herzlia, Israel; Element 14, Inc., Cambridge, United Kingdom; and IDEC (IC Design Education Center), Taejon, Republic of Korea have been added as parties to this venture. Also, Analog Circuit Technology, San Diego, CA; The Boeing Company, Seattle, WA; Chip & Chip, Inc., Santa Clara, CA; IMS—Integrated Measurement Systems, Inc., Beaverton, OR; Iprias Ltd., Bristol, United Kingdom; Maingate Electronics, Inc., Yokohama, Kanagawa, Japan; Metis Associates, Inc., Sunnyvale, CA; NeoParadigm Labs, Inc., San Jose, CA; Sagantec North America, Inc., Fremont, CA; Silicon Access Technology, San Jose, CA; SiPCore, Inc., San Jose, CA; Stellar Semiconductor, San Jose, CA; and VLSI Technology, Inc., San Jose, CA have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on October 8, 1999. A notice has not yet been published in the Federal Register.

Constance K. Robinson,
Director of Operations, Antitrust Division.

[FR Doc. 00-15608 Filed 6-20-00; 8:45 am]

BILLING CODE 4410-11-M